DEPARTMENT OF TRANSPORTATION

Federal Aviation Administration

14 CFR Part 71

[Docket No. FAA-2009-0514; Airspace Docket No. 07-AWA-1]

RIN 2120-AA66

Amendment to Class B Airspace; Cleveland, OH

AGENCY: Federal Aviation Administration (FAA), DOT.

ACTION: Final rule.

SUMMARY: This action modifies the Cleveland, OH, Class B airspace area by expanding the existing airspace area to ensure containment of all published instrument procedures and the aircraft flying those instrument procedures within Class B airspace, and segregation of Instrument Flight Rules (IFR) aircraft arriving/departing Cleveland-Hopkins International Airport (CLE) and non-participating Visual Flight Rules (VFR) aircraft operating in the vicinity of the Cleveland Class B airspace area. The additional Class B airspace will support simultaneous arrival and departure operations under VFR conditions and simultaneous IFR approaches during marginal VFR conditions using Precision Runway Monitor/Simultaneous Offset Instrument Approaches (PRM/SOIA). Geographic coordinates listed in the description are also updated to reflect current aeronautical database information. This action enhances safety, improves the flow of air traffic, and reduces the potential for midair collision in the Cleveland terminal area.

DATES: Effective Date: 0901 UTC, April 7, 2011. The Director of the Federal Register approves this incorporation by reference action under 1 CFR part 51, subject to the annual revision of FAA Order 7400.9 and publication of conforming amendments.

FOR FURTHER INFORMATION CONTACT: Colby Abbott, Airspace, Regulations, and ATC Procedures Group, Office of Airspace Services, Federal Aviation Administration, 800 Independence Avenue, SW., Washington, DC 20591; telephone: (202) 267-8783.

SUPPLEMENTARY INFORMATION:

History

On April 20, 2010, the FAA published in the Federal Register a notice of proposed rulemaking (NPRM) to modify the Cleveland, OH, Class B airspace area (75 FR 20528). The FAA proposed this action to ensure containment of turbo-jet IFR aircraft conducting instrument approaches to CLE within the confines of Class B airspace and better segregate IFR aircraft arriving/departing CLE and non-participating VFR aircraft operating in the vicinity of the Cleveland Class B airspace area.

Interested parties were invited to participate in this rulemaking effort by submitting written comments on the proposal. In response to the NPRM, the FAA received 14 written comment submissions, including comments from Aircraft Owners and Pilots Association (AOPA) and the Soaring Society of America (SSA). Two comments received were duplicate documents submitted by two different commenters. Many of the commenters identified themselves as pilots who operate within, or through, the local area. All comments received were considered before making a determination on the final rule. An analysis of the comments received and the FAA's responses are contained in the “Discussion of Comments” section below.

Subsequent to the NPRM publication, typographical errors were identified for two geographic coordinates proposed in the Area E description published in the regulatory text. The geographic coordinates that were published as “lat. 42°47′20″ N., long. 81°27′36″ W.” in the NPRM should have been “lat. 41°47′20″ N., long. 81°27′36″ W.”, and the geographic coordinates that were published as “lat. 42°40′43″ N., long. 81°38′13″ W.” should have been “lat. 41°40′43″ N., long. 81°38′13″ W.”. The geographic coordinate errors are corrected in this action.

Discussion of Comments

The AOPA cited the work of the FAA in developing this rule. They support the proposed modifications and appreciate the common sense approach the FAA adopted to include only that airspace required for the containment of arrivals and departures at CLE. Further, AOPA applauded the FAA's efforts to address and mitigate concerns raised by general aviation pilots regarding access to the airports affected by the redesign.

Seven commenters objected to proposed Areas F and G. They argued the FAA proposed these areas significantly larger than required or presented previously. Six of the commenters wanted the lateral dimensions of the areas reduced to only five nautical mile (NM) extensions in length by five NM in width. One commenter argued that federal airways are established with four NM lateral widths from a radial of a navigation aid and that the FAA should reduce the widths of the areas to four NM also. Three commenters wanted Areas F and G eliminated altogether if the lateral dimensions could not be reduced. And lastly, three commenters suggested the FAA define the boundaries of Areas F and G to coincide with visual landmarks to prevent inadvertent Class B airspace violations. Unless changed, the commenters believed the proposed Areas F and G would deteriorate safe flight operations beneath and in the vicinity of the Class B airspace extension.

The FAA does not agree. For clarity, the lateral dimensions of Areas F and G as proposed in the NPRM are 10 NM in length, extending from the CLE Runway 24L ILS/DME antenna (I-HPI) 20 NM arc to the I-HPI 30 NM arc. The areas are 6 NM in width, from the CLE Runway 6R localizer (I-CLE) signal extended to 6 NM north of the Runway 6L localizer (I-LIZ) signal extended for Area F and from the I-CLE signal extended to 6 NM south of the Runway 6R localizer (I-EYU) signal extended for Area G. These lateral dimensions were determined to be the absolute minimum essential to control IFR aircraft arriving from multiple arrival streams that are being sequenced in the traffic patterns for Precision Runway Monitor/Simultaneous Offset Instrument Approaches (PRM/SOIA) procedures into CLE. The length of these areas ensures the 15 to 18 percent of IFR aircraft arrivals that currently enter, exit, and re-enter the CLE Class B airspace (as noted in the NPRM) are fully contained within Class B airspace once they enter the traffic patterns to intercept the final approach course and the PRM/SOIA procedures. During periods of moderate and heavy traffic, aircraft may be turned onto the PRM/SOIA finals as far as 25 NM to 30 NM from CLE, as is the case today. The width of these areas ensures IFR arrival aircraft conducting PRM/SOIA are contained within Class B airspace while flying in the traffic patterns and are safely separated, in accordance with aircraft separation standards and guidance, between non-participating VFR aircraft that may be flying along the boundaries of Areas F and G and IFR aircraft flying the instrument approach procedures to Runways 6L/6R. To reduce the lateral dimensions (length or width) of the Areas F or G Class B airspace extensions would be impractical.

For the same reasons as discussed above, the FAA has determined the request to consider eliminating Areas F and G if they cannot be reduced in size is also impractical. The extensions are necessary in the interest of flight safety to contain all the instrument approach procedures and the IFR aircraft flying those procedures at CLE within Class B airspace, as well as segregate the IFR aircraft and non-participating VFR aircraft flying in the vicinity of the CLE Class B airspace area.

The FAA acknowledges the benefits of using visual landmarks for defining airspace boundaries and does so when possible. However, there are no prominent landmarks in the areas needed to mark the lateral boundaries of Areas F and G. Using the landmarks that the commenters noted would not define the minimum airspace needed as addressed above. Since there were no visual landmarks to define the boundaries of Areas F and G, the FAA used arcs and radials from existing CLE navigation aids to define them.

Eight commenters suggested the split floor altitudes proposed for Areas F and G (5,000 feet mean sea level (MSL) and 6,000 feet MSL, respectively) would cause confusion and probably some inadvertent Class B airspace incursions. The commenters stated the split level proposed design still presented a safety infringement to the glider operations at Reader-Botsford airport (67D) and offered multiple recommendations for changing the floor altitudes to remedy their concerns. Two commenters recommended raising the floor of Areas F and G to 6,000 feet MSL and 7,000 feet MSL, respectively; two commenters recommended making both floor altitudes 6,000 feet MSL; and three commenters recommended raising the Area G floor only to 7,000 feet MSL.

The FAA does not agree and has determined it is not possible to raise the floor altitude of either area without impacting the operational efficiency of the PRM/SOIA into CLE. Again, for clarity, the vertical dimensions of Areas F and G as proposed in the NPRM are from 5,000 feet MSL to and including 8,000 feet MSL for Area F and from 6,000 feet MSL to and including 8,000 feet MSL for Area G. Initially, the Class B airspace extension to the southwest in the same airspace proposed as Areas F and G was designed as a single area with a floor altitude of 5,000 feet MSL. After receiving public input from the ad hoc committee and public comments following the informal airspace meetings recommending the configuration proposed, the subdivision and altitudes of the two areas were proposed using the minimum amount of airspace necessary to contain PRM/SOIA procedures to Runways 6L/6R at CLE.

Aircraft flying PRM/SOIA procedures cannot be assigned the same altitude during turn-on to the final approach course; they must be assigned an altitude that differs by at least 1,000 feet from the altitude of other aircraft conducting simultaneous approaches. Air traffic control must continue to maintain at least 1,000 feet vertical separation between aircraft flying PRM/SOIA procedures until they reach 14 NM from CLE where the actively monitored No Transgression Zone between the approaches begins. Specifically, during an east flow at CLE, aircraft will be turned onto and established on final approach courses at 5,000 feet MSL and 7,000 feet MSL for Runway 6L, and 6,000 feet MSL and 8,000 feet MSL for Runway 6R. For both runways, air traffic controllers may be sequencing aircraft from two or more arrival streams, necessitating the use of multiple altitudes in the arrival descent areas, until lateral separation is established. Under some projected traffic scenarios, multiple altitude downwind patterns will be utilized, with aircraft “layered” by altitude and worked by separate controllers. As the boundary between Areas F and G is based on the extended Runway 6R localizer I-CLE signal, the FAA continues to believe that Class B incursions will not become an issue.

Lastly, as noted in the NPRM, the proposed Areas F and G are expected to provide the gliders operating at 67D with airspace supportive of their operations while at the same time ensuring the integrity of the CLE Class B airspace by containing all instrument procedures and the IFR aircraft flying the procedures at CLE.

Eleven commenters stated that establishing the proposed Areas F and G extension would adversely affect flight safety beneath and in the near vicinity of the extension. The safety concerns cited included compression of general aviation aircraft under the extension where gliders operate, increased potential for mid-air collisions, wake turbulence effects on gliders from heavy aircraft arrivals on approach to CLE, and increased potential for off-field landings by glider pilots as a result of the extension overhead 67D.

The FAA acknowledges that some compression will occur since non-participating VFR general aviation and glider aircraft have their choice of flying either above or below the Class B airspace extension or circumnavigating it further west to remain clear should they decide not to contact the Cleveland Terminal Radar Approach Control (TRACON) facility to receive Class B services. However, establishing the Class B airspace extensions is necessary, consistent with regulatory guidance, to contain all instrument procedures and the IFR turbo-jet aircraft flying the instrument approach procedures within Class B airspace, and to enhance flight safety to all in the CLE terminal area by segregating the large turbo-jet aircraft and the non-participating VFR aircraft operating in the vicinity of the CLE Class B airspace areas.

All aircraft operating beneath or in the vicinity of Areas F and G are expected to continue to comply with the regulatory requirements of Title 14 of the Code of Federal Regulations (14 CFR) § 91.111, titled Operating Near Other Aircraft, to avoid creating a collision hazard with other aircraft operating in the same airspace. Additionally, all aircraft operating in the same areas noted above are expected to continue complying with 14 CFR § 91.113, titled Right-of-Way Rules: Except Water Operations, to “see and avoid” other aircraft as well. The FAA believes that continued general aviation and glider operator compliance with established flight rules regulatory requirements, and these two regulations specifically, will overcome the mid-air collision and wake turbulence concerns raised by the commenters.

Lastly, the FAA acknowledges the concerns of the glider community with the establishment of Class B airspace overhead 67D. However, the design of the Class B airspace extension to the southwest of CLE was minimized to the absolute essential dimensions operationally practical by incorporating the recommendations made by the glider community participating on the ad hoc committee and as requested during the informal airspace meetings. Since the majority of glider operations occur to the south and west of 67D and the redesigned configuration of the Class B airspace extension overlying 67D was raised to 6,000 feet MSL, the FAA believes impacts to local area or cross-country glider flight operation at 67D will be negligible and off-field landing will not be a factor.

The FAA has considered the safety concerns cited above thoroughly and determined they do not negate the need for this action. At the present time, large turbo-jet air carrier, general aviation, and glider aircraft are flying simultaneously in the airspace proposed to become Areas F and G, due to the outdated design of the CLE Class B airspace area. The traffic compression, mid-air collisions, effects of wake turbulence on gliders, and off-field landings concerns raised by the commenters all exist today. Moving forward with the Class B airspace modifications in this action will enhance flight safety for all operators flying within, through, or near the CLE Class B airspace area.

Six commenters stated that the proposed Class B airspace Areas F and G would establish Class B airspace directly over the airspace Fun Country Soaring (FCS) currently flies in and would diminish safe glider operations. The commenters argued that FCS would be forced to consider shutting down its operation or relocating away from 67D. The commenters further suggested that the loss of FCS would create personal financial hardships and result in financial impacts for the owner of 67D and the town of Wellington, OH.

The FAA does not agree. As noted in the NPRM, the initial CLE Class B airspace extension extending to the southwest was proposed from 5,000 feet MSL to 8,000 feet MSL. During the informal airspace meeting held in Wellington, OH, a member of the glider community suggested the airspace extension be split into a north section and a south section whereby the floor of the Class B airspace overlying 67D, where the gliders operate, could be raised to 6,000 feet MSL. This would provide glider operators over 5,000 feet of airspace to maneuver and minimize impacts to glider operations at 67D. Almost half of the comments received following the informal airspace meetings endorsed this recommendation, including the comments received from the Village of Wellington, OH, Administrator. The FAA adopted this suggestion and created Area F and Area G as proposed in the NPRM. Again, since most glider operations occur to the south and west of 67D, the Areas F and G proposed in the NPRM are expected to enable glider operations to continue with negligible impact to local area or cross-country flights. As such, the FCS operation at 67D is not expected to shut down or relocate and the financial impacts to the FCS members, owner of 67D, and town of Wellington, OH, that were alluded to by the commenters responding to the NPRM, would be averted.

Seven commenters questioned the need for the proposed CLE Class B modifications in light of the United and Continental airlines merger. They suggested that the merger would include considerable consolidation and reduction of routes resulting in a lower traffic volume at CLE; making the Class B airspace expansion unnecessary. In addition, one commenter stated further that if the proposed Class B airspace extension areas were being used by air carriers currently, then they did not see the requirement to legislate the exclusion of general aviation flyers by initiating this rulemaking action. In essence they were, arguing this rulemaking action was not needed.

The FAA does not agree. The FAA is taking action to modify the current Class B airspace area to contain all instrument procedures at CLE and the aircraft flying those instrument procedures to and from CLE within Class B airspace, consistent with FAA directives, based on the instrument approach and departure procedures in place today. This action overcomes IFR aircraft entering, exiting, and reentering the CLE Class B airspace area while flying published instrument approach procedures and the associated traffic patterns during arrival. Additionally, this action further enhance flight safety by segregating IFR aircraft flying instrument procedures into CLE and VFR aircraft operating in the vicinity of the CLE Class B airspace. The Class B airspace modifications in this rule represent the minimum airspace needed to reasonably accommodate the current operations, fleet mix, and existing flight tracks at CLE.

AOPA recommended the FAA consider raising the portion of Area B north of the shoreline over Lake Erie from the existing 1,900 feet MSL to 3,000 feet MSL. A second commenter also requested the FAA lift the existing 1,900 feet MSL and 3,000 feet MSL Class B airspace floors over Lake Erie (Areas B and C, respectively), but did not indicate an alternative altitude. Both commenters stated that an alternative to raising the Class B floor altitudes over Lake Erie could be the addition of a VFR flyway. The second commenter also requested the FAA establish a VFR flyway between the eastern Cleveland suburban airports, Cuyahoga County Airport and Burke Lakefront Airport, and the greater Columbus and Cincinnati airports.

The FAA has determined it is not possible to raise the floor altitudes for the CLE Class B airspace areas over Lake Erie, as requested. No modifications were proposed for these areas as the existing airspace structure was deemed sufficient to continue supporting and protecting IFR aircraft departing Runways 6L/6R and VFR aircraft flying along the Lake Erie shoreline. Although the commenters cited safety reasons as the basis for their recommendation and request, there are no known safety issues for that airspace today. The FAA recognizes that raising the CLE Class B Areas B and C airspace floors over Lake Erie would provide VFR pilots additional transit altitudes and airspace over Lake Erie to operate east and west along the shoreline north of Cleveland. However, the Class B airspace in Areas B and C protects the IFR aircraft departing Runways 6L/6R climbing and turning left over Lake Erie to transition to westbound routings and the VFR aircraft flying in the vicinity of those Class B airspace areas from the IFR departures. Additionally, establishing VFR flyways is not a regulatory action and falls outside the scope of this rule. As such, the commenters' VFR flyway recommendations are being provided to the Cleveland TRACON facility for their consideration as appropriate, and are not addressed further in this action.

One commenter questioned the adequacy of the air traffic controller and radar resources to safely control and separate the aircraft operating in the vicinity of the proposed Class B airspace Areas E, F, and G. The commenter was specifically concerned that establishing the new Class B airspace extensions without additional resources would increase the number of near mid-air collisions occurring in the airspace below the extensions due to increasing numbers of high performance aircraft skirting beneath the proposed Class B airspace extensions and impacting those aircraft already flying there.

The FAA does not agree. Staffing and equipment resources are already in place and adequate to support the CLE Class B modifications and provide all Class B services without impacting safety or efficiency. The FAA does not expect either to be an issue for CLE. No air traffic control facility airspace sector changes will be required to handle the Class B airspace modifications; hence, the existing number of air traffic controllers assigned is sufficient. Additionally, since there are no changes to the current traffic flows associated with this Class B modification action, the existing radar sites, radar displays, navigation aids and communication equipment is also sufficient. However, should circumstances arise that indicate a need for additional air traffic controller or radar resources, action will be taken to obtain them.

Three commenters stated that the geographic coordinates [latitude/longitude] defining Areas F and G did not coincide with the text of the NPRM and needed to be redefined consistent with the dimensions briefed at the informal airspace meetings. Two of these commenters further noted that the southern boundary of Area G was not parallel with the Runway 6R centerline extended as proof the coordinates were in error.

The FAA does not agree. The coordinates published in the NPRM regulatory text for defining Areas F and G were validated with the FAA's Aeronautical Navigation Procedures Group and found to be correct and consistent with the text published in the NPRM. The FAA acknowledges that Areas F and G proposed in the NPRM differ from what was presented during the informal airspace meetings. However, the proposed Areas F and G airspace published in the NPRM is the minimum necessary to reasonably contain IFR arrival aircraft flying PRM/SOIA procedures to runways 6L and 6R, and the geographic coordinates published accurately reflect these areas. With respect to the comments about the southern boundary of Area G, the commenters are correct that the boundary is not parallel to the runway 6R centerline extended. The northern and southern boundaries of the Area G are defined from different navigation aids. The northern boundary is defined by the Runway 6R localizer (I-CLE) signal extended, and the southern boundary is defined 6 miles south and parallel to the Runway 6R localizer (I-EYU) signal extended. This accounts for the fact that the southern boundary of Area G is offset by 3 degrees and is not parallel to the northern boundary.

One commenter requested the FAA consider opening a “Window” into the proposed Areas F and G to make that airspace available to glider pilots when CLE is landing on Runways 24L and 24R. The commenter based their request on what they noted as the FAA's practice of opening Windows into Class A airspace for glider operations under mountain wave conditions in Western States.

Air traffic control has the authority to authorize, on a case by case basis, certain operations within Class B airspace pursuant to the regulatory requirements of 14 CFR part 91.131, Operations in Class B Airspace. Establishing operational procedures is not a regulatory action. As such, this commenter's request for operational procedures is being provided to the Cleveland TRACON for further consideration as appropriate.

One commenter recommended that a steeper descent profile from the existing 3 degree glide slopes at CLE be used so as to enhance air carrier safety. The SSA was concerned that poor weather descents, with reduced aircraft performance in landing configurations, could result in air carrier crashes not being contained within airfield boundaries, risking the public and others.

The FAA does not agree. Aircraft accidents and crash sites are influenced by many factors, i.e. nature of the emergency, altitude, airspeed, weight, phase of flight, distance from an airport, terrain, etc. Establishing steeper instrument approach descent profiles does not necessarily equate to a safer approach into an airport or less risk to the public. Additionally, glide slope angles above 3.1 degrees would result in the loss of approach minimums for category D and E aircraft. A 3 degree glide slope angle is the standard for safety, and increasing the angle of the glide slope is outside the scope of this airspace rule.

Two commenters noted the dimensions of the airspace modifications [presumably Areas F and G] proposed in the NPRM were different from what the ad hoc committee discussed. One of the commenters went on to question whether the FAA had published the airspace extension descriptions in the NPRM with errors, while the other asserted that the passage of time since the ad hoc committee meeting in 2008 had diminished the public's awareness and participation in this proposed rulemaking. In addition, five commenters argued that the airspace modifications proposed in the NPRM did not reflect the correct dimensions the users agreed would be a workable revision. Two of these commenters further argued they did not think it was proper or legal for the FAA to force what they consider to be unacceptable, unsafe restrictions on pilots and air traffic by publishing incorrect information without re-engaging the public forum.

The FAA acknowledges that the dimensions of the Class B airspace proposed in the NPRM are different from the initial airspace configuration dimensions discussed by the ad hoc committee. However, the FAA does not agree that the NPRM was published with errors in the proposed airspace extension descriptions, or that the public's awareness and participation in the rulemaking process has been diminished. An ad hoc committee was formed to solicit local input on an initial proposal and met in 2008 to develop recommendations to the FAA regarding the proposed design of the Class B airspace. The committee did not reach consensus on an airspace design, but did recommend a variety of alternatives for the FAA to consider. In addition, as announced in the Federal Register (73 FR 40446) on July 14, 2008, the FAA held Informal Airspace Meetings in the CLE local area on September 16 and September 17, 2008, to inform users of the planned airspace changes and to gather facts and information relevant to the proposed airspace action. A comment period followed these informal airspace meetings to solicit comments or recommendations on the proposal from the public. Finally, the NPRM was published in the Federal Register (75 FR 20528) on April 20, 2010, to again inform users of the proposed airspace changes and provide a 60 day period for users to submit comments or recommendations on the proposal. All comments received were considered prior to the FAA's determination in this final rule action.

The development of the CLE Class B airspace modification was a dynamic, iterative process of informing the public of the proposed airspace action, receiving comments and recommendations from the public, and considering the operational requirements in concert with public comments and recommendations received. The comments and recommendations received from the ad hoc committee were considered by the FAA in developing the proposed airspace action presented at the informal airspace meetings, and the public's comments and recommendations received following the informal airspace meetings were considered in the development of the proposed airspace action presented in the NPRM. As such, the proposed Class B airspace extension (Areas F and G) descriptions in the NPRM were not published with errors and the public's awareness and participation in this rulemaking action has not been diminished with the passage of time.

One commenter questioned the total operations figure of 550,171 for CLE in 2008 that was cited in the Federal Register (75 FR 20528) notice. The commenter stated he was unable to find any traffic numbers near the figure presented, but did find a 200,268 total operations statistic for 2009 provided by the Hopkins International Airport website, as well as a Department of Transportation statistic that showed 104,823 total departures for CLE in 2008. The commenter further questioned that with actual traffic numbers less than half of the volume cited in the NPRM summary was the proposed change to the airspace really justified?

The FAA source for the 550,171 total operations for CLE in 2008 cited in the background section of the NPRM comes from the Air Traffic Activity Data Systems (ATADS). The FAA's ATADS contains the official National Airspace System (NAS) air traffic operations data available for public release. The total operations figure cited in the NPRM is in fact the total terminal operations for CLE; which is the sum of the tower operations (240,340) and the TRACON operations (309,831) using the Cleveland Class B airspace area. The total operations figure the commenter cited from the Hopkins International Airport website is the total airport operations; which reflect the IFR and VFR arrivals, departures, and local operations at the airport only. It does not account for any overflight operations flying in the vicinity of CLE that contribute to the traffic density or operational complexity.

As noted in the NPRM, the procedural requirements for using PRM/SOIA to establish aircraft on final at least 15 miles from CLE result in aircraft exceeding the lateral boundaries of the current Class B airspace by up to 10 miles during moderate levels of air traffic. Based on the total terminal operations figures above and the existing IFR traffic flows in the vicinity of CLE, the FAA has determined the proposed Class B airspace area modifications are justified and necessary. The Class B airspace extensions will enhance flight safety by containing all instrument procedures and the aircraft flying the instrument approach procedures within Class B airspace and ensuring the segregation of IFR aircraft arriving/departing CLE and VFR general aviation and glider aircraft operating in the vicinity of the Cleveland Class B airspace area.

The Rule

The FAA is amending 14 CFR part 71 to modify the Cleveland, OH, Class B airspace area. This action (depicted on the attached chart) administratively corrects one area within the existing Cleveland Class B airspace area and establishes two airspace extensions (the first, Area E, to the northeast, and the second, defined by Areas F and G, to the southwest) in order to provide additional airspace needed to contain IFR aircraft conducting instrument approach operations within Class B airspace once they have entered it and to better segregate the IFR aircraft arriving/departing CLE and the non-participating VFR aircraft operating in the vicinity of the Cleveland Class B airspace area. The modifications to the Cleveland Class B airspace area are discussed below.

Areas A, C, and D. Areas A, C, and D are unchanged by this action.

Area B. The FAA is correcting the legal description for Area B by removing the portion that excludes the airspace within a 2-mile radius of Burke Lakefront Airport. The Class B airspace within Area B does not overlap the airspace contained within a 2-mile radius of the Burke Lakefront Airport. Therefore, the Area B exclusion language addressing the airspace within a 2-mile radius of Burke Lakefront Airport is unnecessary.

Area E. Area E is established to the northeast of CLE. This modification extends from the existing Area D boundary defined by the 20-mile arc of I-HPI to the 30-mile arc of I-HPI. The northern boundary of this area is 6 miles north and parallel to the Runway 24R localizer (I-PVY) signal extended, and the southern boundary is 6 miles south and parallel to the Runway 24L localizer (I-FVZ) signal extended. This new area is established with the floor extending upward from 5,000 feet MSL to and including 8,000 feet MSL, overlying the Willoughby Lost Nation Airport in Willoughby, OH. The effect of this new area ensures IFR aircraft flying instrument approaches to runways 24L and 24R are contained within Class B airspace throughout the approach, segregates IFR aircraft arriving CLE and non-participating VFR aircraft operating in the vicinity of the Cleveland Class B airspace area, and provides airspace below and above this area for non-participating VFR aircraft operations outside of Class B airspace.

Area F. Area F is established to the southwest of CLE. This modification extends from the existing Area D boundary defined by the 20-mile arc of I-HPI to the 30-mile arc of I-HPI. The northern boundary is 6 miles north and parallel to the Runway 6L localizer (I-LIZ) signal extended, and the southern boundary is defined by the Runway 6R localizer (I-CLE) signal extended. This new area is established with the floor extending upward from 5,000 feet MSL to and including 8,000 feet MSL, overlying to the north and west of Wellington, OH. Similar to the effect of Area E, this new area [with Area G described below] ensures IFR aircraft flying instrument approaches to runways 6L and 6R are contained within Class B airspace throughout the approach, segregates IFR aircraft arriving CLE and non-participating VFR aircraft operating in the vicinity of the Cleveland Class B airspace area, and provides airspace below and above this area for VFR aircraft operations outside of Class B airspace.

Area G. Area G is established to the southwest of CLE also. This modification extends from the existing Area D boundary defined by the 20-mile arc of I-HPI to the 30-mile arc of I-HPI. The northern boundary is defined by the Runway 6R localizer (I-CLE) signal extended, and the southern boundary is defined 6 miles south and parallel to the Runway 6R localizer (I-EYU) signal extended. This new area is established with the floor extending upward from 6,000 feet MSL to and including 8,000 feet MSL, overlying the Reader-Botsford Airport in Wellington, OH. Similar to the effect of Areas E and F, this new area (with Area F described above) ensures IFR aircraft flying instrument approaches to runways 6L and 6R are contained within Class B airspace throughout the approach, segregates IFR aircraft arriving CLE and non-participating VFR aircraft operating in the vicinity of the Cleveland Class B airspace area, and provides airspace below and above this area for VFR aircraft operations outside of Class B airspace.

Additionally, this action updates the CLE airport reference point and the CLE Runway 24L ILS/DME antenna (I-HPI) geographic coordinates listed in the airspace designation of the Cleveland Class B airspace area to reflect current NAS aeronautical data.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this final rule.

Regulatory Evaluation Summary

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this final rule. The reasoning for this determination follows.

This final rule enhances safety by improving the flow of air traffic, and reducing the potential for midair collision in the Cleveland terminal area. In the NPRM, we concluded that the benefits of the proposed rule exceeded any minimal cost associated with the requirements. One commenter indicated that a soaring club would be forced to consider shutting down or relocating operations as a result of the proposal. The company may decide not to relocate which would result in no additional costs. If a company changes locations, there would be relocation costs. However, as explained earlier, the final rule will continue to allow glider operations resulting in only a minimal impact.

The FAA has determined establishing these requirements are essential to ensure flight safety and efficiency of the NAS in the CLE terminal airspace. Due to the efficiency and safety benefits, and because we have incorporated the recommendations of affected individuals into the requirements, there will only be minimal economic cost with substantial positive net benefits.

The FAA has, therefore, determined that this final rule is not a “significant regulatory action” as defined in section 3(f) of Executive Order 12866, and is not “significant” as defined in DOT's Regulatory Policies and Procedures.

Final Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

Our initial determination was that the rule would not have a significant economic impact on a substantial number of small entities. One commenter indicated that a soaring club would be affected as a result of the proposal. We agree that, if a company changes locations, there would be some relocation cost. However, because we have incorporated the recommendations of affected individuals into the requirements, and we expect operations to continue, there will be minimal economic impact. As such, this final rule will not have a significant economic impact on a substantial number of small entities because the economic impact is expected to be minimal.

Therefore, the FAA Administrator certifies that this final rule will not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the effect of this final rule and determined that it will enhance safety and is not considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This final rule does not contain such a mandate; therefore, the requirements of Title II of the Act do not apply.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9U, Airspace Designations and Reporting Points, dated August 18, 2010, and effective September 15, 2010, is amended as follows:

Paragraph 3000 Subpart B—Class B airspace

* * * * *

AGL OH B Cleveland, OH [Modified]

Cleveland-Hopkins International Airport (Primary Airport)

(Lat. 41°24′34″ N., long. 81°51′18″ W.)

Cleveland-Hopkins International Airport Runway 24L ILS/DME Antenna (I-HPI)

(Lat. 41°23′44″ N., long. 81°52′18″ W.)

Gilbert Airport (Pvt)

(Lat. 41°22′00″ N., long. 81°58′00″ W.)

Boundaries

Area A. That airspace extending upward from the surface to and including 8,000 feet MSL within a 5-mile radius of I-HPI, excluding that airspace within a 1-mile radius of Gilbert Airport.

Area B. That airspace extending upward from 1,900 feet MSL to and including 8,000 feet MSL within an 8.5-mile radius of I-HPI, excluding Area A previously described.

Area C. That airspace extending upward from 3,000 feet MSL to and including 8,000 feet MSL within a 15-mile radius of I-HPI, excluding Areas A and B previously described.

Area D. That airspace extending upward from 4,000 feet MSL to and including 8,000 feet MSL within a 20-mile radius of I-HPI, excluding Areas A, B, and C previously described.

Area E. That airspace extending upward from 5,000 feet MSL to and including 8,000 feet MSL starting at point lat. 41°30′41″ N., long. 81°27′22″ W., then northeast to point lat. 41°37′00″ N., long. 81°16′29″ W., then northwest along the 30-mile arc of I-HPI to point lat. 41°47′20″ N., long. 81°27′36″ W., then southwest to point lat. 41°40′43″ N., long. 81°38′13″ W., then southeast along the 20-mile arc of I-HPI to the point of beginning.

Area F. That airspace extending upward from 5,000 feet MSL to and including 8,000 feet MSL starting at point lat. 41°16′17″ N., long. 82°16′56″ W., then southwest to point lat. 41°09′35″ N., long. 82°27′23″ W., then southeast along the 30-mile arc of I-HPI to point lat. 41°04′24″ N., long. 82°22′43″ W., then northeast to point lat. 41°10′52″ N., long. 82°12′37″ W., then northwest along the 20-mile arc of I-HPI to the point of beginning.

Area G. That airspace extending upward from 6,000 feet MSL to and including 8,000 feet MSL starting at point lat. 41°06′13″ N., long. 82°05′07″ W., then southwest to point lat. 40°59′08″ N., long. 82°15′03″ W., then northwest along the 30-mile arc of I-HPI to point lat. 41°04′24″ N., long. 82°22′43″ W., then northeast to point lat. 41°10′52″ N, long. 82°12′37″ W, then southeast along the 20-mile arc of I-HPI to the point of beginning.

BILLING CODE-P

BILLING CODE C

Issued in Washington, DC, on February 7, 2011.
Edith V. Parish,
Manager, Airspace, Regulations and ATC Procedures Group.

[FR Doc. 2011-3211 Filed 2-11-11; 8:45 am]

BILLING CODE P